SECURITIES AND EXCHANGE COMMISSION

[File No. 500-1]

In the Matter of Certain Companies Quoted on the Pink Sheets: Greenstone Holdings, Inc.; Order of Suspension of Trading

June 18, 2008.

It appears to the Securities and Exchange Commission that there is a lack of current and accurate information concerning the securities of Greenstone Holdings, Inc. (“Greenstone”).

Greenstone is incorporated under the laws of Florida and has its primary headquarters in New York, New York. Questions have arisen regarding the adequacy and accuracy of press releases, financial statements, and statements on the company's Web site concerning the company's current financial condition, business and operations, and stock promoting activity.

The Commission is of the opinion that the public interest and the protection of investors require a suspension of trading in Greenstone's securities.

Therefore, it is ordered, pursuant to Section 12(k) of the Securities Exchange Act of 1934, that trading in the above listed company is suspended for the period from 9:30 a.m. EDT on June 18, 2008, through 11:59 p.m. EDT, on July 1, 2008.

By the Commission.
Jill M. Peterson,
Assistant Secretary.

[FR Doc. 08-1373 Filed 6-18-08; 10:51 am]

BILLING CODE 8010-01-P